DEPARTMENT OF STATE

[Public Notice: 12439]

Privacy Act of 1974; System of Records

AGENCY: Department of State.

ACTION: Rescindment of a system of records notice.

SUMMARY: The “Post Capabilities Database, State-71” which is being rescinded, contained information which was used and reviewed by medical and administrative personnel to make clearance decisions for individuals eligible to participate in the State Department Medical program (MED) and as a reference for local medical capabilities. It was also used as a directory of MED employees working overseas.

DATES: On May 5, 2023, the Department of State published a notice in the Federal Register (88 FR 29171) stating that records in State-71 were being consolidated with “Medical Records, State-24” into a single modified State-24 because the records and system purposes were substantially similar. The consolidation of these two systems of records into State-24 became effective on June 5, 2023.

ADDRESSES: Questions can be submitted by mail, email, or by calling Ereney A. Hadjigeorgalis, the Senior Agency Official for Privacy, on (771) 204-7399. If mail, please write to: U.S. Department of State; Office of Global Information Services, A/GIS; Room 4534, 2201 C St. NW, Washington, DC 20520. If email, please address the email to the Senior Agency Official for Privacy, Ereney A. Hadjigeorgalis, at Privacy@state.gov. Please write “Post Capabilities Database, State-71” on the envelope or the subject line of your email.

FOR FURTHER INFORMATION CONTACT: Ereney A. Hadjigeorgalis, Senior Agency Official for Privacy; U.S. Department of State; Office of Global Information Services, A/GIS; Room 4534, 2201 C St. NW, Washington, DC 20520 or by calling (771) 204-7399.

SUPPLEMENTARY INFORMATION: The records in “Post Capabilities Database State-71” (originally published at 74 FR 65586) were consolidated with “Medical Records, State-24” (previously published at 80 FR 7671). The new SORN reflecting the consolidated systems of records “Medical Records, State-24” published at 88 FR 29171 became effective on June 5, 2023.

SYSTEM NAME AND NUMBER:

Post Capabilities Database, State-71.

HISTORY:

“Post Capabilities Database, State-71” was previously published at 74 FR 65586. “Medical Records, State-24” was previously published at 80 FR 7671 before being modified and re-published at 88 FR 29171.

Ereney A. Hadjigeorgalis,
Acting Deputy Assistant Secretary, Global Information Services (A/GIS), Department of State.

[FR Doc. 2024-14631 Filed 7-2-24; 8:45 am]

BILLING CODE 4710-36-P